DEPARTMENT OF HOMELAND SECURITY

Office of the Secretary

[Docket No. DHS-2014-0024]

Privacy Act of 1974; Computer Matching Program

AGENCY: Department of Homeland Security, U.S. Citizenship and Immigration Services

ACTION: Notice.

Overview Information: Privacy Act of 1974; Computer Matching Program between the Department of Homeland Security, U.S. Citizenship and Immigration Services and the New York State Department of Labor.

SUMMARY: This document provides notice of the existence of a computer matching program between the Department of Homeland Security, U.S. Citizenship and Immigration Services and the New York State Department of Labor, titled “Verification Division DHS-USCIS/NYSDOL.”

SUPPLEMENTARY INFORMATION: The Department of Homeland Security, U.S. Citizenship and Immigration Services provides this notice in accordance with the Privacy Act of 1974 (5 U.S.C. 552a), as amended by the Computer Matching and Privacy Protection Act of 1988 (Pub. L. 100-503) and the Computer Matching and Privacy Protection Amendments of 1990 (Pub. L. 101-508) (Privacy Act); Office of Management and Budget (OMB) Final Guidance Interpreting the Provisions of Public Law 100-503, the Computer Matching and Privacy Protection Act of 1988, 54 FR 25818 (June 19, 1989); and OMB Circular A-130, Appendix I, 65 FR 77677 (December 12, 2000).

Participating Agencies: The Department of Homeland Security, U.S. Citizenship and Immigration Services (DHS-USCIS) is the source agency and the New York State Department of Labor (NYSDOL) is the recipient agency.

Purpose of the Match: This Computer Matching Agreement allows DHS-USCIS to provide the NYSDOL with electronic access to immigration status information contained within the DHS-USCIS Verification Information System (VIS). The immigration status information will enable NYSDOL to determine whether an applicant is eligible for benefits under the Unemployment Compensation (UC) program administered by NYSDOL.

Authority for Conducting the Matching Program: Section 121 of the Immigration Reform and Control Act (lRCA) of 1986, Public Law 99-603, as amended by the Personal Responsibility and Work Opportunity Reconciliation Act of 1996 (PRWORA), requires DHS to establish a system for the verification of immigration status of alien applicants for, or recipients of, certain types of benefits and to make this system available to state agencies that administer such benefits. Section 121(c) of IRCA amends Section 1137 of the Social Security Act and certain other sections of law that pertain to Federal entitlement benefit programs to require state agencies administering these programs to use the DHS-USCIS verification system to make eligibility determinations in order to prevent the issuance of benefits to alien applicants who are not entitled to program benefits because of their immigration status. The VIS database is the DHS-USCIS system established and made available to NYSDOL and other covered agencies for use in making these eligibility determinations.

NYSDOL seeks access to the information contained in the DHS-USCIS VIS database, for the purpose of confirming the immigration status of alien and naturalized/derived United Statues citizen applicants for, or recipients of, the benefits it administers, in order to discharge its obligation to conduct such verifications pursuant to Section 1137 of the Social Security Act, 42 U.S.C. 1320b-7 and to New York Unemployment Insurance Law, Article 18, Title 7, Section 590.

Categories of Records and Individuals Covered

DHS-USCIS will provide the following to NYSDOL: Records in the DHS-USCIS VIS database containing information related to the status of aliens and other persons on whom DHS-USCIS has a record as an applicant, petitioner, or beneficiary. See DHS/USCIS-004 Systematic Alien Verification for Entitlements Program System of Records Notice, 77 FR 47415 (August 8, 2012).

NYSDOL will provide the following to DHS-USCIS: NYSDOL records pertaining to alien and naturalized/derived United Statues citizen applicants for, or recipients of entitlement benefit programs administered by the State.

NYSDOL will match the following records with DHS-USCIS records:

• Alien Registration Number.

• I-94 Number.

• Last Name.

• First Name.

• Middle Name.

• Date of Birth.

• Nationality.

• Social Security Number (SSN).

DHS-USCIS will match the following records with NYSDOL records:

• Alien Registration Number.

• I-94 Number.

• Last Name.

• First Name.

• Middle Name.

• Date of Birth.

• Country of Birth (not nationality).

• SSN (if available).

• Date of Entry.

• Immigration Status Data.

• Sponsorship Information (sponsor's full name, SSN, and address).

Inclusive Dates of the Matching Program: The inclusive dates of the matching program are from June 29, 2014, and continuing for 18 months through December 28, 2015. The matching program may be extended for up to an additional 12 months thereafter, if certain conditions are met.

Address for Receipt of Public Comments Or Inquires: Individuals wishing to comment on this matching program or obtain additional information about the program, including requesting a copy of the computer matching agreement between DHS-USCIS and NYSDOL, may contact.

For general questions please contact: Donald K. Hawkins, 202-272-8030, Privacy Officer, U.S. Citizenship and Immigration Services, Department of Homeland Security, 20 Massachusetts Avenue NW., Washington, DC 20529.

For privacy questions please contact: Karen L. Neuman (202-343-1717), Chief Privacy Officer, Privacy Office, Department of Homeland Security, Washington, DC 20528.

Dated: May 16, 2014.
Karen L. Neuman,
Chief Privacy Officer, Department of Homeland Security.

[FR Doc. 2014-12766 Filed 6-2-14; 8:45 am]

BILLING CODE 9110-9L-P